DEPARTMENT OF COMMERCE

International Trade Administration

[A-570-079]

Cast Iron Soil Pipe From the People's Republic of China: Preliminary Results of Antidumping Duty Administrative Review; 2018-2020

AGENCY: Enforcement and Compliance, International Trade Administration, Department of Commerce.

SUMMARY: The Department of Commerce (Commerce) preliminarily determines that cast iron soil pipe (soil pipe) from the People's Republic of China (China) was sold in the United States at less than normal value (NV) during the period of review (POR) August 31, 2018, through April 30, 2020. We invite interested parties to comment on these preliminary results.

DATES: Applicable August 9, 2021.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On July 10, 2020, Commerce published a notice of initiation of an administrative review of the antidumping duty order on soil pipe from China.¹ This administrative review covers one company, Yuncheng Jiangxian Economic Development Zone HengTong Casting Co., Ltd. (HengTong).

¹ See Initiation of Antidumping and Countervailing Duty Administrative Reviews, 85 FR 41540 (July 10, 2020); see also Cast Iron Soil Pipe from the People's Republic of China: Antidumping Duty Order, 84 FR 19035 (May 3, 2019) (Order).

On July 21, 2020, Commerce tolled all deadlines in administrative reviews by 50 days.² On March 22, 2021, Commerce extended the deadline for the preliminary results to July 30, 2021.³

² See Memorandum, “Tolling of Deadlines for Antidumping and Countervailing Duty Administrative Reviews,” dated July 21, 2020.

³ See Memorandum, “Cast Iron Soil Pipe from the People's Republic of China: Extension of Deadline for Preliminary Results of the 2018-2020 Antidumping Duty Administrative Review,” dated March 22, 2021.

For a complete description of the events that followed the initiation of this review, see the Preliminary Decision Memorandum.⁴ A list of topics included in the Preliminary Decision Memorandum is included as an Appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/.

⁴ See Memorandum, “Decision Memorandum for the Preliminary Results of the Antidumping Duty Administrative Review: Cast Iron Soil Pipe from the People's Republic of China; 2018-2020,” dated concurrently with, and hereby adopted by, this notice (Preliminary Decision Memorandum).

Scope of the Order

The product covered by this order is soil pipe from China. For a full description of the scope, see the Preliminary Decision Memorandum.

Separate Rate

Commerce preliminary determines that information placed on the record by HengTong demonstrates that HengTong is entitled to separate rate status. For additional information, see the Preliminary Decision Memorandum.

China-Wide Entity

Commerce's policy regarding conditional review of the China-wide entity applies to this administrative review.⁵ Under this policy, the China-wide entity will not be under review unless a party specifically requests, or Commerce self-initiates, a review of the entity. Because no party requested a review of the China-wide entity in this review, the entity is not under review and the weighted-average dumping margin determined for the China-wide entity (i.e., 235.93 percent) is not subject to change as a result of this review.⁶ For additional information, see the Preliminary Decision Memorandum.

⁵ See Antidumping Proceedings: Announcement of Change in Department Practice for Respondent Selection in Antidumping Duty Proceedings and Conditional Review of the Nonmarket Economy Entity in NME Antidumping Duty Proceedings, 78 FR 65963 (November 4, 2013).

⁶ See Order, 84 FR at 19036.

Methodology

Commerce is conducting this review in accordance with section 751(a)(1)(B) of the Tariff Act of 1930, as amended (the Act). We calculated export price in accordance with section 772 of the Act. Because China is a non-market economy country within the meaning of section 771(18) of the Act, we calculated NV in accordance with section 773(c) of the Act.

For a full description of the methodology underlying our conclusions, see the Preliminary Decision Memorandum.

Preliminary Results of Review

Commerce preliminarily determines that the following weighted-average dumping margin exists for the period August 31, 2018, through April 31, 2020:

Exporter | Weighted-Average Dumping Margin (percent)
Yuncheng Jiangxian Economic Development Zone HengTong Casting Co., Ltd (aka HengTong Casting Co., Ltd.) | 31.48

Disclosure and Public Comment

Commerce intends to disclose the calculations performed for these preliminary results to interested parties within five days of the date of publication of this notice, in accordance with 19 CFR 351.224(b). Commerce will announce the briefing schedule to interested parties at a later date. Rebuttal briefs, the content of which is limited to issues raised in case briefs, may be filed no later than seven days after the date established for filing case briefs.⁷ Parties who submit case briefs or rebuttal briefs in this proceeding are encouraged to submit with each argument: (1) A statement of the issue; (2) a brief summary of the argument; and (3) a table of authorities.⁸ Case and rebuttal briefs should be filed using ACCESS ⁹ and must be served on interested parties.¹⁰ Executive summaries should be limited to five pages total, including footnotes. Note that Commerce has temporarily modified certain of its requirements for serving documents containing business proprietary information, until further notice.¹¹

⁷ See 19 CFR 351.309(d).

⁸ See 19 CFR 351.309(c)(2) and (d)(2).

⁹ See generally 19 CFR 351.303.

¹⁰ See 19 CFR 351.303(f).

¹¹ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a request to the Assistant Secretary for Enforcement and Compliance, filed electronically via ACCESS. An electronically-filed document must be received successfully in its entirety through Commerce's electronic records system, ACCESS, by 5:00 p.m. Eastern Time within 30 days after the date of publication of this notice. Requests should contain: (1) The party's name, address, and telephone number; (2) the number of participants; and (3) a list of the issues to be discussed. If a request for a hearing is made, Commerce intends to hold the hearing at a time and date to be determined. Parties should confirm by telephone the date and time of the hearing two days before the scheduled date.

Unless otherwise extended, Commerce intends to issue the final results of this administrative review, which will include the results of our analysis of all issues raised in the case briefs, within 120 days of publication of these preliminary results, pursuant to section 751(a)(3)(A) of the Act.

Assessment Rates

Upon completion of this administrative review, Commerce will determine, and United States Customs and Border Protection (CBP) shall assess, antidumping duties on all appropriate entries.¹²

¹² See 19 CFR 351.212(b).

If HengTong's weighted-average dumping margin is not zero or de minimis (i.e., less than 0.50 percent) in the final results of this review, Commerce will calculate importer-specific assessment rates on the basis of the ratio of the total amount of dumping calculated for the examined sales to that importer to the total entered value of those sales,¹³ in accordance with 19 CFR 351.212(b)(1). Commerce will instruct CBP to collect the appropriate duties at the time of liquidation.

¹³ As noted in the Preliminary Decision Memorandum, we intend to modify the entered value used in the calculation of our assessment instructions to CBP so as to capture the full amount of antidumping duties due on imports of HengTong's merchandise. See Preliminary Decision Memorandum at Section V; see also Memorandum, “Cast Iron Soil Pipe from the People's Republic of China: Analysis of HengTong for the Preliminary Results,” dated concurrently with this notice.

Where an exporter's weighted-average dumping margin is zero or de minimis, or an importer-specific ad valorem assessment rate is zero or de minimis, Commerce will instruct CBP to liquidate appropriate entries without regard to antidumping duties.¹⁴

¹⁴ See 19 CFR 351.106(c)(2).

For entries that were not reported in the U.S. sales data submitted by HengTong, Commerce will instruct CBP to liquidate such entries at the rate for the China-wide entity.¹⁵

¹⁵ See Non-Market Economy Antidumping Proceedings: Assessment of Antidumping Duties, 76 FR 65694 (October 24, 2011), for a full discussion of this practice.

Commerce intends to issue assessment instructions to CBP no earlier than 35 days after the date of publication of the final results of this review in the Federal Register.¹⁶ If a timely summons is filed at the U.S. Court of International Trade, the assessment instructions will direct CBP not to liquidate relevant entries until the time for parties to file a request for a statutory injunction has expired (i.e., within 90 days of publication).

¹⁶ See Notice of Discontinuation of Policy to Issue Liquidation Instructions After 15 Days in Applicable Antidumping and Countervailing Duty Administrative Proceedings, 86 FR 884 (January 15, 2021).

Cash Deposit Requirements

The following cash deposit requirements will be effective upon publication of the final results of this review for shipments of the subject merchandise entered, or withdrawn from warehouse, for consumption on or after the publication date, as provided by section 751(a)(2)(C) of the Act: (1) For HengTong, the cash deposit rate will be equal to the weighted-average dumping margin established in the final results of this review (except, if the rate is de minimis, then cash deposit rate will be zero); (2) for previously examined China and non-China exporters not listed above that at the time of entry are eligible for a separate rate based on a prior completed segment of this proceeding, the cash deposit rate will continue to be the existing exporter-specific cash deposit rate; (3) for all China exporters of subject merchandise that have not been found to be entitled to a separate rate at the time of entry, the cash deposit rate will be that for the China-wide entity (i.e., 235.93 percent); and (4) for all non-China exporters of subject merchandise which at the time of entry are not eligible for a separate rate, the cash deposit rate will be the rate applicable to the China exporter that supplied that non-China exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

This administrative review and notice are issued and published in accordance with sections 751(a)(1) and 777(i)(1) of the Act, and 19 CFR 351.213 and 351.221(b)(4).

Dated: July 30, 2021.
Christian Marsh,
Acting Assistant Secretary for Enforcement and Compliance.

Appendix

List of Topics Discussed in the Preliminary Decision Memorandum

I. Summary

II. Background

III. Scope of the Order

IV. Discussion of the Methodology

V. Assessment for HengTong's U.S. Sales and Entries of Subject Merchandise

VI. Recommendation

[FR Doc. 2021-16913 Filed 8-6-21; 8:45 am]

BILLING CODE 3510-DS-P